SECURITIES AND EXCHANGE COMMISSION

[Release No. IC-27137]

Notice of Applications for Deregistration under Section 8(f) of the Investment Company Act of 1940

October 28, 2005.

The following is a notice of applications for deregistration under section 8(f) of the Investment Company Act of 1940 for the month of October, 2005. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on November 21, 2005, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE.,Washington, DC 20549-9303.

FOR FURTHER INFORMATION CONTACT: Diane L. Titus at (202) 551-6810, SEC, Division of Investment Management, Office of Investment Company Regulation, 100 F Street, NE., Washington, DC 20549-0504.

Security Capital Real Estate Mutual Funds Incorporated [File No. 811-8033]

Summary: Applicant seeks an order declaring that it has ceased to be an investment company. On February 18, 2005, applicant transferred its assets to JP Morgan U.S. Real Estate Fund, a series of JP Morgan Trust II, based on net asset value. Expenses of $850,000 incurred in connection with the reorganization were paid by applicant's investment adviser, Security Capital Research & Management Incorporated, or its affiliates.

Filing Date: The application was filed on September 29, 2005.

Applicant's Address: 10 South Dearborn St., Suite 1400, Chicago, IL 60603.

Valor Investment Fund, Inc. [File No. 811-2850]

Summary: Applicant, a closed-end investment company, seeks an order declaring that it has ceased to be an investment company. On August 25, 2005, applicant made a liquidating distribution to its shareholders, based on net asset value. Expenses of $43,000 incurred in connection with the liquidation will be paid by applicant. Applicant has retained approximately $200,000 in cash to pay expenses associated with its liquidation and dissolution. Any funds remaining after expenses and liabilities are paid will be distributed to shareholders on a pro rata basis.

Filing Dates: The application was filed on September 13, 2005, and amended on October 12, 2005.

Applicant's Address: 2290 First National Building, Detroit, MI 48226.

Phoenix Strategic Allocation Fund (formerly Phoenix Oakhurst Strategic Allocation Fund, Phoenix Oakhurst Strategic Allocation Fund, Inc., Phoenix Strategic Allocation Fund, Inc. and Phoenix Total Return Fund) [File No. 811-1442]

Summary: Applicant seeks an order declaring that it has ceased to be an investment company. On April 29, 2005, applicant transferred its assets to Phoenix Balanced Fund, a series of Phoenix Series Fund, based on net asset value. Expenses of $48,597 incurred in connection with the reorganization were paid by Phoenix Investment Partners, Ltd., which is a wholly owned subsidiary of applicant's and the acquiring fund's investment adviser.

Filing Dates: The application was filed on September 7, 2005, and amended on October 11, 2005.

Applicant's Address: 101 Munson St., Greenfield, MA 01301.

Co-operative Bank Investment Fund d/b/a Bank Investment Fund [File No. 811-4421]

Summary: Applicant seeks an order declaring that it has ceased to be an investment company. On August 29, 2005, applicant transferred its assets to corresponding series of Asset Management Fund, based on net asset value. Expenses of $90,000 incurred in connection with the reorganization were paid by applicant and Shay Assets Management, Inc., the acquiring fund's investment adviser.

Filing Dates: The application was filed on September 1, 2005, and amended on October 6, 2005.

Applicant's Address: 75 Park Plaza, Boston, MA 02116.

Nuveen Massachusetts Dividend Advantage Municipal Fund 2 [File No. 811-21155]

Nuveen Virginia Dividend Advantage Municipal Fund 3 [File No. 811-21542]

Nuveen Connecticut Dividend Advantage Municipal Fund 4 [File No. 811-21543]

Nuveen Arizona Dividend Advantage Municipal Fund 4 [File No. 811-21544]

Nuveen California Municipal High Income Opportunity Fund [File No. 811-21545]

Nuveen North Carolina Dividend Advantage Municipal Fund 4 [File No. 811-21551]

Summary: Each applicant, a closed-end investment company, seeks an order declaring that it has ceased to be an investment company. Applicants have never made a public offering of their securities and do not propose to make a public offering or engage in business of any kind.

Filing Date: The applications were filed on September 21, 2005.

Applicants' Address: 333 West Wacker Dr., Chicago, IL 60606.

BACAP Opportunity Strategy, LLC [File No. 811-21063]

Summary: Applicant, a closed-end investment company, seeks an order declaring that it has ceased to be an investment company. On June 29, 2005, applicant made a final liquidating distribution to its shareholders, based on net asset value. Expenses of approximately $195,981 incurred in connection with the liquidation were paid by applicant. Applicant has retained approximately $464,241 in cash to pay outstanding liabilities of that amount.

Filing Dates: The application was filed on July 11, 2005, and amended on September 29, 2005.

Applicant's Address: 101 South Tryon St., Charlotte, NC 28255.

Fairport Funds [File No. 811-8774]

Summary: Applicant seeks an order declaring that it has ceased to be an investment company. On August 12, 2005, applicant made a liquidating distribution to its shareholders, based on net asset value. Expenses of $11,766 incurred in connection with the liquidation were paid by applicant and its investment adviser, Roulston & Company, Inc.

Filing Date: The application was filed on October 11, 2005.

Applicant's Address: 3636 Euclid Ave., Cleveland, OH 44115.

INVESCO Variable Investment Funds, Inc. [File No. 811-8038]

Summary: Applicant seeks an order declaring that it has ceased to be an investment company. On April 30, 2004, applicant transferred its assets to AIM Variable Insurance Funds, based on net asset value. Expenses of $784,640 incurred in connection with the reorganization were paid by applicant and applicant's investment adviser, INVESCO Funds Group, Inc.

Filing Dates: The application was filed on May 6, 2005, and amended on August 9, 2005.

Applicant's Address: 11 Greenway Plaza, Suite 100, Houston, TX 77046-1173.

WT Investment Trust I [File No. 811-8067]

Summary: Applicant, a master fund in a master-feeder structure, seeks an order declaring that it has ceased to be an investment company. On July 1, 2005, each of applicant's series made a liquidating distribution in kind to its feeder funds, based on net asset value. Expenses of $13,205 incurred in connection with the liquidation were paid by applicant's respective feeder funds.

Filing Date: The application was filed on October 14, 2005.

Applicant's Address: 1100 North Market, Wilmington, DE 19890.

John Hancock Variable Series Trust [File No. 811-4490]

Summary: Applicant seeks an order declaring that it has ceased to be an investment company. On April 29, 2005, Applicant made a distribution of its assets in connection to its shareholders in connection with its merger with John Hancock Trust. Expenses of $3,436,531 were incurred in connection with the merger. These expenses were generally allocated among and paid by each portfolio of Applicant (“Acquired Fund”) and the portfolio of John Hancock Trust into that portfolio of Applicant was merged (“Acquiring Fund”) on an asset weighted basis, with the Acquired and Acquiring Fund in any combination bearing the expenses of that combination in proportion to their relative net assets as of June 30, 2004.

Filing Dates: The application was filed on August 3, 2005.

Applicant's Address: John Hancock Life Insurance Company, 601 Congress Street, Boston, Massachusetts 02210.

For the Commission, by the Division of Investment Management, pursuant to delegated authority.
Jonathan G. Katz,
Secretary.

[FR Doc. E5-6106 Filed 11-3-05; 8:45 am]

BILLING CODE 8010-01-P